DEPARTMENT OF ENERGY

Federal Energy Regulatory Commission

Combined Notice of Filings #1

Take notice that the Commission received the following electric rate filings:

Docket Numbers: ER10-2331-007; ER10-2343-007; ER10-2319-006; ER10-2320-006; ER10-2317-005; ER10-2322-007; ER10-2324-006; ER10-2325-005; ER10-2332-006; ER10-2326-007; ER10-2327-008; ER10-2328-006; ER11-4609-005; ER10-2898-006.

Applicants: J.P. Morgan Ventures Energy Corporation, Triton Power Michigan LLC, BE Allegheny LLC, BE CA LLC, BE Ironwood LLC, BE KJ LLC, BE Rayle LLC, BE Alabama LLC, BE Louisiana LLC, Cedar Brakes I, L.L.C., Utility Contract Funding, L.L.C., Central Power & Lime LLC, Cedar Brakes II, L.L.C., J.P. Morgan Commodities Canada Corporation.

Description: Central Region of J.P. Morgan Ventures Energy Corporation LLC et al. submits its Updated Market Power Analysis pursuant to Order No. 697 Compliance Filing.

Filed Date: 6/27/12.

Accession Number: 20120627-5179.

Comments Due: 5 p.m. ET 8/27/12.

Docket Numbers: ER10-2606-001.

Applicants: Consolidated Water Power Company.

Description: Consolidated Water Power Company Market-Based Rate Tariff to be effective 6/28/2012.

Filed Date: 6/27/12.

Accession Number: 20120627-5148.

Comments Due: 5 p.m. ET 7/18/12.

Docket Numbers: ER10-2606-002; ER10-2609-002.

Applicants: Consolidated Water Power Company, Escanaba Paper Company.

Description: Updated Market Power Analysis of Consolidated Water Power Company, et al.

Filed Date: 6/27/12.

Accession Number: 20120627-5176.

Comments Due: 5 p.m. ET 8/27/12.

Docket Numbers: ER10-2609-001.

Applicants: Escanaba Paper Company.

Description: Escanaba Paper Company Market-Based Rate Tariff to be effective 6/28/2012.

Filed Date: 6/27/12.

Accession Number: 20120627-5146.

Comments Due: 5 p.m. ET 7/18/12.

Docket Numbers: ER11-4386-002.

Applicants: AmericaWide Energy, LLC.

Description: AmericaWide Energy, LLC submits letter to FERC informing them that AmericaWide Energy Holdings, LLC is now the sole member of the company.

Filed Date: 6/25/12.

Accession Number: 20120627-0201.

Comments Due: 5 p.m. ET 7/16/12.

Docket Numbers: ER12-1875-001.

Applicants: AltaGas Renewable Energy Colorado LLC.

Description: Supplement to be effective 12/31/9998.

Filed Date: 6/27/12.

Accession Number: 20120627-5145.

Comments Due: 5 p.m. ET 7/18/12.

Docket Numbers: ER12-2065-001.

Applicants: Aequitas Energy, Inc.

Description: Amendment to Filing 1 to be effective 6/20/2012.

Filed Date: 6/27/12.

Accession Number: 20120627-5167.

Comments Due: 5 p.m. ET 7/18/12.

Docket Numbers: ER12-2115-000.

Applicants: PJM Interconnection, L.L.C.

Description: Notice of Cancellation of Service Agreement 2856 in Docket No. ER11-3527-000 to be effective 5/9/2012.

Filed Date: 6/27/12.

Accession Number: 20120627-5083.

Comments Due: 5 p.m. ET 7/18/12.

Docket Numbers: ER12-2116-000.

Applicants: Northeast Utilities Service Company.

Description: NUSCO on Behalf of Western Massachusetts Electric Company Notice of Cancellation of Service Agreement.

Filed Date: 6/27/12.

Accession Number: 20120627-5112.

Comments Due: 5 p.m. ET 7/18/12.

Docket Numbers: ER12-2117-000.

Applicants: Midwest Independent Transmission System Operator, Inc.

Description: G645-G788 Amended GIA (6-27-12) to be effective 6/28/2012.

Filed Date: 6/27/12.

Accession Number: 20120627-5116.

Comments Due: 5 p.m. ET 7/18/12.

Docket Numbers: ER12-2118-000.

Applicants: Pacific Gas and Electric Company.

Description: Shelter Cove IA Amendment and WDT SA to be effective 8/27/2012.

Filed Date: 6/27/12.

Accession Number: 20120627-5154.

Comments Due: 5 p.m. ET 7/18/12.

Docket Numbers: ER12-2119-000.

Applicants: Avista Corporation.

Description: Avista KEC Unexecuted SA T-1119 to be effective 9/1/2012.

Filed Date: 6/27/12.

Accession Number: 20120627-5165.

Comments Due: 5 p.m. ET 7/18/12.

Take notice that the Commission received the following electric securities filings:

Docket Numbers: ES12-45-000.

Applicants: Golden Spread Electric Cooperative, Inc.

Description: Amendment to Application of Golden Spread Electric Cooperative, Inc.

Filed Date: 6/27/12.

Accession Number: 20120627-5178.

Comments Due: 5 p.m. ET 7/9/12.

Take notice that the Commission received the following public utility holding company filings:

Docket Numbers: PH12-17-000.

Applicants: SteelRiver Infrastructure Partners LP.

Description: FERC-65A: Revised Exemption Notification of SteelRiver Infrastructure Partners LP.

Filed Date: 6/27/12.

Accession Number: 20120627-5103.

Comments Due: 5 p.m. ET 7/18/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 28, 2012.
Nathaniel J. Davis, Sr.,
Deputy Secretary.

[FR Doc. 2012-16689 Filed 7-6-12; 8:45 am]

BILLING CODE 6717-01-P